DEPARTMENT OF COMMERCE

International Trade Administration

[C-489-806]

Certain Pasta from Turkey: Notice of Rescission of Countervailing Duty Administrative Review

AGENCY: Import Administration, International Trade Administration, Department of Commerce.

ACTION: Notice of Rescission of Countervailing Duty Administrative Review.

SUMMARY: In response to a request made on July 31, 2003, by Gidasa Sabanci Gida Sanayi ve Ticaret A.S., a producer/exporter of certain pasta from Turkey, the Department of Commerce initiated an administrative review of the countervailing duty order on certain pasta from Turkey, covering the period January 1, 2002, through December 31, 2002. See Initiation of Antidumping and Countervailing Duty Administrative Reviews and Request for Revocation in Part, 68 FR 50750 (August 22, 2003). As a result of a timely withdrawal of the request for review by Gidasa Sabanci Gida Sanayi ve Ticaret, A.S., we are rescinding this review.

EFFECTIVE DATE: November 26, 2003.

FOR FURTHER INFORMATION CONTACT: Melanie Brown, AD/CVD Enforcement, Group I, Office 1, Import Administration, U.S. Department of Commerce, 14th Street and Constitution Avenue, NW, Washington, DC 20230; telephone: (202) 482-4987.

SUPPLEMENTARY INFORMATION:

Background

On July 24, 1996, the Department of Commerce (“the Department”) published a countervailing duty order on certain pasta from Turkey. See Notice of Countervailing Duty Order: Certain Pasta from Turkey, 61 FR 38546 (July 24, 1996). On July 31, 2003, Gidasa Sabanci Gida Sanayi ve Ticaret, A.S. (“Gidasa”), a producer/exporter of certain pasta from Turkey, requested an administrative review of the countervailing duty order on certain pasta from Turkey for the relevant period. In accordance with 19 CFR 351.221(c)(1)(i), we initiated the review on August 22, 2003 (68 FR 50750). On November 3, 2003, Gidasa withdrew its request for review.

Scope of Review

Imports covered by this review are shipments of certain non-egg dry pasta in packages of five pounds (2.27 kilograms) or less, whether or not enriched or fortified or containing milk or other optional ingredients such as chopped vegetables, vegetable purees, milk, gluten, diastases, vitamins, coloring and flavorings, and up to two percent egg white. The pasta covered by this scope is typically sold in the retail market, in fiberboard or cardboard cartons, or polyethylene or polypropylene bags of varying dimensions.

Excluded from the scope of this review are refrigerated, frozen, or canned pastas, as well as all forms of egg pasta, with the exception of non-egg dry pasta containing up to two percent egg white.

The merchandise subject to review is currently classifiable under item 1902.19.20 of the Harmonized Tariff Schedule of the United States (HTSUS). Although the HTSUS subheading is provided for convenience and Customs purposes, the written description of the merchandise subject to the order is dispositive.

Scope Rulings

The Department has issued the following scope ruling to date: (1) On October 26, 1998, the Department self-initiated a scope inquiry to determine whether a package weighing over five pounds as a result of allowable industry tolerances is within the scope of the antidumping and countervailing duty orders. On May 24, 1999, we issued a final scope ruling finding that, effective October 26, 1998, pasta in packages weighing or labeled up to (and including) five pounds four ounces is within the scope of the antidumping and countervailing duty orders. See Memorandum from John Brinkmann to Richard Moreland, dated May 24, 1999, in the case file in the Central Records Unit, main Commerce building, room B-099 (“CRU”).

Rescission of Administrative Review

The Department's regulations, at 19 CFR 351.213(d)(1), provide that the Department will rescind an administrative review if the party that requested a review withdraws the request within 90 days of the date of publication of the notice of initiation of the requested review. Gidasa withdrew its request for an administrative review on November 3, 2003, which is within the 90-day deadline. No other party requested a review of Gidasa's sales. Therefore, the Department is rescinding this administrative review.

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

This notice is issued and published in accordance with 19 CFR 351.213(d)(4).

Dated: November 17, 2003.
Jeffrey May,
Deputy Assistant Secretary for Import Administration.

[FR Doc. 03-29601 Filed 11-25-03; 8:45 am]

BILLING CODE 3510-DS-S